JUDICIAL CONFERENCE OF THE UNITED STATES

60 Days of Public Comment, and a Hearing, for Draft Amendments to Rules for Judicial-Conduct and Judicial-Disability Proceedings

AGENCY: Judicial Conference of the United States.

ACTION: Notice of public comment on draft rules and hearing.

SUMMARY: The Judicial Conference of the United States Committee on Judicial Conduct and Disability has released a draft of proposed amendments to the Judicial Conference's Rules for Judicial-Conduct and Judicial-Disability Proceedings (“JCD Rules”) for public comment and has scheduled a public hearing.

Notice of Draft Rules for Public Comment and Hearing

On September 2, 2014, the Committee on Judicial Conduct and Disability of the Judicial Conference of the United States released for public comment a draft of proposed amendments to the Judicial Conference's Rules for Judicial-Conduct and Judicial-Disability Proceedings (“JCD Rules”). The comment period will conclude on November 3, 2014. Comments received during this time will be carefully considered by the Judicial Conduct and Disability Committee as it prepares the draft amendments for Judicial Conference consideration.

The JCD Rules, which implement the Judicial Conduct and Disability Act, 28 U.S.C. 351-364, were adopted by the Judicial Conference in 2008 under 28 U.S.C. 358, which also governs this amendment process. The draft amendments being released for comment are designed to make the Act's complaint process more effective and efficient, improve its transparency, clarify language in the JCD Rules, and fill procedural gaps. They deal with publication requirements, varieties of misconduct and disability, potential remedies, special-committee procedures, appeal rights, consultation options, and other matters.

A link on http://www.uscourts.gov will enable members of the public to review the draft amendments online and submit comments electronically. Providers of comments are asked to give their name and occupation (lawyer, judge, court official, professor, or other) and to identify any entity on whose behalf they are commenting. Members of the public may also ask to appear and testify at a hearing on the draft amendments, to be held at 10:00 a.m. on October 30, 2014 at the E. Barrett Prettyman Courthouse, 333 Constitution Avenue NW., Washington, DC. Any request to appear and testify must be emailed by October 10, 2014 to JudicialConductRulesAmendmentsHearing@ao.uscourts.gov.

Dated: August 25, 2014.
Robert K. Loesche,
General Counsel, Administrative Office of the United States Courts.

[FR Doc. 2014-20555 Filed 8-29-14; 8:45 am]

BILLING CODE 2210-55-P